DEPARTMENT OF DEFENSE

Department of the Air Force

Realistic Bomber Training Initiative

AGENCY: Department of the Air Force, Department of Defense.

ACTION: Record of decision.

SUMMARY: On March 20, 2007, the United States Air Force signed a Record of Decision for the Realistic Bomber Training Initiative Supplemental Environmental Impact Statement. This decision was based on information, analysis, and public comments contained in both the Environmental Impact Statement for the Realistic Bomber Training Initiative (Federal Register Notice of Availability February 4, 2000) and the Supplemental Environmental Impact Statement for the Realistic Bomber Training Initiative (Federal Register Notice of Availability published August 11, 2006), along with other relevant factors. After carefully considering the issues addressed in the Supplemental Environmental Impact Statement and the comments submitted, the Air Force decided not to change the decision described in the initial Record of Decision and to continue implementation of Alternative B of the Realistic Bomber Training Initiative. This alternative includes the use of appropriate training assets associated with Instrument Route IR-178/Lancer Military Operations Area. As indicated above, a Notice of Availability of the Final Supplemental Environmental Impact Statement was published in the Federal Register on August 11, 2006 (Volume 71, Number 155, Page 46220). The required 30-day waiting period for a Record of Decision has been completed.

FOR FURTHER INFORMATION CONTACT: Sheryl K. Parker, Headquarters Air Combat Command, A7ZP/Comprehensive Planning Branch, 129 Andrews St., Suite 102, Langley AFB, VA 23655 or call (757) 764-9334.

Bao-Anh Trinh,
Air Force Federal Register Liaison Officer.

[FR Doc. E7-7333 Filed 4-17-07; 8:45 am]

BILLING CODE 5001-05-P